ENVIRONMENTAL PROTECTION AGENCY

40 CFR Part 52

[EPA-R06-OAR-2010-0846; FRL-9275-9]

Extension of Public Comment Period for Proposed Action on Interstate Transport of Pollution Affecting Visibility and Best Available Retrofit Technology Determination for New Mexico

AGENCY: Environmental Protection Agency (EPA).

ACTION: Proposed rule; extension of comment period.

SUMMARY: On January 5, 2011, EPA published in the Federal Register a proposed rule on interstate transport of pollution affecting visibility and Best Available Retrofit Technology (BART) determination for New Mexico and requested comment by March 7, 2011. EPA is extending the public comment period for the proposed rule until April 4, 2011.

DATES: Comments must be submitted no later than April 4, 2011.

ADDRESSES: Submit your comments, identified by Docket No. EPA-R06-OAR-2010-0846, by one of the following methods:

• Federal e-Rulemaking Portal: http://www.regulations.gov.

• Follow the online instructions for submitting comments.

• EPA Region 6 “Contact Us” Web site: http://epa.gov/region6/r6coment.htm. Please click on “6PD (Multimedia)” and select “Air” before submitting comments.

• E-mail: Mr. Guy Donaldson at donaldson.guy@epa.gov. Please also send a copy by e-mail to the person listed in the FOR FURTHER INFORMATION CONTACT section below.

• Fax: Mr. Guy Donaldson, Chief, Air Planning Section (6PD-L), at fax number 214-665-7263.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays, and not on legal holidays. Special arrangements should be made for deliveries of boxed information.

Instructions: Direct your comments to Docket No. EPA-R06-OAR-2010-0846. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Joe Kordzi Air Planning Section (6PD-L), Environmental Protection Agency, Region 6, 1445 Ross Avenue, Suite 700, Dallas, Texas 75202-2733, telephone (214) 665-7186, fax number (214) 665-7263; e-mail address kordzi.joe@epa.gov.

SUPPLEMENTARY INFORMATION: Throughout this document wherever “we,” “us,” or “our” is used, we mean the EPA. On January 5, 2011, we published in the Federal Register a proposed rule on interstate transport of pollution affecting visibility and BART determination for New Mexico (76 FR 492). In the proposal we requested comment by March 7, 2011. On January 11, 2011, we published a notice in the Federal Register announcing a public hearing on our proposal to be held in Farmington, New Mexico on February 17, 2011, at San Juan College, beginning at 6 p.m. (76 FR 1578). The proposal, notice of public hearing, and supporting documentation for our proposal can be accessed from the regulations.gov Web site (Docket No. EPA-R06-OAR-2010-0846).

We are extending the comment period for our proposed rule until April 4, 2011. This extension will provide an opportunity for submission of rebuttal and supplementary information 30 days after the public hearing.

Dated: February 28, 2011.
William L. Luthans,
Acting Multimedia Planning and Permitting Division Director, Region 6.

[FR Doc. 2011-5045 Filed 3-4-11; 8:45 am]

BILLING CODE 6560-50-P